DEPARTMENT OF ENERGY

Federal Energy Regulatory Commission

[Docket No. EL13-49-000]

Citizens Energy Task Force, Save Our Unique Lands (Complainants) v. Midwest Reliability Organization, Midwest Independent Transmission System Operator, Inc., Xcel Energy, Inc., Great River Energy, Dairyland Power Cooperative, Wisconsin Public Power Inc., (Respondents); Notice of Complaint

Take notice that on February 28, 2013, pursuant to section 306 of the Federal Power Act (FPA) and Rule 206 of the Rules of Practice and Procedures of the Federal Energy Regulatory Commission (Commission), 18 CFR 385.206, Citizens Energy Task Force (CETF) and Save Our Unique Lands (SOUL) filed a complaint requesting that the Commission order: (1) That the MTEP 08 addition of the Hampton-Rochester-La Crosse transmission line is prohibited because electrical impacts of the addition of this project to the grid were not considered, and that instead of improving the reliability of the system, it contributes to and/or causes electrical system instability; (2) that the Midwest Reliability Organization has neglected its duty to preserve the reliability of the system, and (3) that the Commission order revocation of the Midwest Independent Transmission Service Operator approval of the CapX 2020 Hampton-La Crosse transmission project because the addition of the Hampton-Rochester-La Crosse transmission line contributes to and/or causes system instability.

The Complainants certify that copies of the complaint were served on the contacts for the Respondents as listed on the commission's list of Corporate Officials and on parties and the regulatory agencies the Complainants reasonably expect to be affected by this complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 21, 2013.

Dated: March 1, 2013.
Kimberly D. Bose,
Secretary.

[FR Doc. 2013-05275 Filed 3-6-13; 8:45 am]

BILLING CODE 6717-01-P